DEPARTMENT OF AGRICULTURE

Commodity Credit Corporation

Domestic Sugar Program—Revisions of 2002-Crop Cane Sugar Marketing Allotments and Allocations

AGENCY: Commodity Credit Corporation, USDA.

ACTION: Notice.

SUMMARY: The Commodity Credit Corporation (CCC) is issuing this notice to advise the public that CCC has reassigned the unused cane sugar allocations from processors in Hawaii and Puerto Rico to processors in Florida, Louisiana and Texas. State cane allotments were updated to be consistent with revised 2002-crop cane sugar production forecasts. Hurricanes in Louisiana last October caused distortions in mill production levels relative to processor allocations and unexpectedly prevented the marketing of sugar. To correct these distortions and resume marketing Louisiana cane sugar, CCC realigned mill allocations earlier than the May 1 regulatory deadline. CCC also distributed the Talisman allocation among the Florida processors according to the statutory requirement.

The Hawaiian cane allotment was reduced 22,951 short tons, raw value (STRV); Puerto Rico's allotment was reduced 5,946 STRV. Florida gained 15,864 STRV, Louisiana gained 9,280 STRV and Texas gained 3,753 STRV. In addition, the entire Talisman allocation of 58,713 STRV was reassigned to three Florida processors.

ADDRESSES: Barbara Fecso, Dairy and Sweeteners Analysis Group, Economic Policy and Analysis Staff, Farm Service Agency, USDA, 1400 Independence Avenue, SW., STOP 0516, Washington, DC 20250-0516; telephone (202) 720-4146; FAX (202) 690-1480; e-mail: barbara.fecso@usda.gov.

FOR FURTHER INFORMATION CONTACT: Barbara Fecso at (202) 720-4146.

SUPPLEMENTARY INFORMATION: Section 359e(a) of the Farm Security and Rural Investment Act of 2002 requires the Secretary to periodically determine whether (in view of current sugar inventories, estimated sugar production, expected marketings and other pertinent factors) any processor will be unable to market the sugar covered by the portion of the State cane sugar allotment allocated to the processor. Section 359e(b)(1)(B) further directs the Secretary to reassign the estimated quantity of a State deficit proportionately to the allotments for other cane sugar States (depending on each State's capacity to market) when a State does not have the capacity to absorb its allocation among its own processors.

In February 2003, the Department of Agriculture surveyed cane sugar processors asking for revisions to 2002-crop production and ending stock estimates for the purpose of calculating reassignments. The allotments/allocations were calculated in two steps:

Step 1: Because 50 percent of cane sugar State allotments and processor allocations are based on the estimate of current crop production, updated production estimates from the February survey yielded new allotments/allocations (column C of the attached table).

Step 2: Survey results revealed 28,897 STRV in unused allocations to Hawaiian and Puerto Rican processors. This amount was proportionately redistributed only to those cane processors in the Mainland States, who revealed in the same survey, a shortfall in allocation for the current crop year (column D of the attached table).

Section 359d(b)(C) requires CCC to distribute the closed Talisman factory's allocation among Florida processors in accordance with the agreements of March 25 and 26, 1999, between the affected processors and the Secretary of the Interior. CCC distributed Talisman's allocation based on the distribution of Talisman's acreage between the affected processors in the 1999 agreements. The Talisman distribution was calculated after the above reassignments (column E of the attached table).

USDA will continue to closely monitor market performance and critical program variables throughout the year to ensure meeting program objectives and maintaining market balance. Cane sugar allotment/allocation reassignments will be reevaluated periodically as production estimates improve.

This notice is being issued in addition to the USDA press release entitled “USDA Announces Revisions to 2002-Crop Cane Sugar Marketing Allotments and Allocations,” which was issued on March 13, 2003, and is only intended to supplement and not supplant what was announced in that release. These actions apply to all domestic cane sugar marketed for human consumption in the United States from October 1, 2002, through September 30, 2003. The revised 2002-crop cane sugar marketing allotments and allocations (in short tons, raw value) are listed in the following table:

Fiscal Year 2003 Sugar Marketing Allotments and Allocations
[Revised March, 2003]
A | B Jan 03 revised allotment/allocation | C Change in allotment/allocation due ONLY to new processor production estimates | D Change in allotment/allocation due ONLY to reassignments | E Talisman distribution | F New allotment/allocation
| (short tons, raw value)
Overall Beet/Cane Allotments:
Beet Sugar | 4,456,700 | 0 | 0 | 0 | 4,456,700
Cane Sugar (Includes P. Rico) | 3,743,300 | 0 | 0 | 0 | 3,743,300
Total (Overall Allotment Quantity) | 8,200,000 | 0 | 0 | 0 | 8,200,000
State Cane Sugar Allotments:
Florida | 1,929,516 | −6,424 | 22,288 | 0 | 1,945,380
Louisiana | 1,330,912 | 4,673 | 4,607 | 0 | 1,340,192
Texas | 157,872 | 1,750 | 2,002 | 0 | 161,625
Hawaii | 318,829 | 49 | −23,000 | 0 | 295,878
Puerto Rico | 6,171 | −49 | −5,897 | 0 | 225
Total Cane Sugar | 3,743,300 | 0 | 0 | 0 | 3,743,300
Florida:
Atlantic Sugar Assoc. | 144,869 | 2,573 | 930 | 0 | 148,371
Growers Co-op. of FL | 350,846 | −7,135 | 701 | 3,564 | 347,976
Okeelanta Corp. | 389,302 | −9,128 | 7,602 | 32,912 | 420,688
Osceola Farms Co. | 227,315 | −2,212 | 4,472 | 0 | 229,575
Talisman Sugar Corp. | 59,660 | −947 | 0 | −58,713 | 0
U.S. Sugar Corp. | 757,524 | 10,425 | 8,584 | 22,237 | 798,769
Florida Total | 1,929,516 | −6,424 | 22,288 | 0 | 1,945,380
Louisiana:
Alma Plantation | 77,818 | −6,006 | 823 | 0 | 72,635
Caire & Graugnard | 5,597 | 495 | 0 | 0 | 6,091
Cajun Sugar Co-op. | 97,645 | 2,940 | 471 | 0 | 101,056
Cora-Texas Mfg. Co. | 116,530 | 2,388 | 379 | 0 | 119,297
Evan Hall Factory | 2,797 | 121 | −2,918 | 0 | 0
Harry Laws & Co. | 58,181 | −4,054 | 921 | 0 | 55,048
Iberia Sugar Co-op. | 62,798 | 1,746 | 0 | 0 | 64,543
Jeanerette Sugar Co. | 63,305 | −1,283 | 400 | 0 | 62,422
Lafourche Sugars Corp. | 72,494 | −8,059 | 5 | 0 | 64,441
Louisiana Sugarcane Co-op. | 82,781 | −1,858 | 83 | 0 | 81,006
Lula Westfield, LLC | 143,145 | 4,678 | 3 | 0 | 147,826
M.A. Patout & Sons | 173,937 | 5,992 | 3,361 | 0 | 183,290
Raceland Sugars | 78,082 | 4,323 | 111 | 0 | 82,516
St. Mary Sugar Co-op. | 92,875 | −4,531 | 325 | 0 | 88,669
So. Louisiana Sugars Co-op. | 115,098 | 3,268 | 0 | 0 | 118,366
Sterling Sugars | 87,830 | 4,512 | 644 | 0 | 92,986
Louisiana Total | 1,330,912 | 4,673 | 4,607 | 0 | 1,340,192
Texas: Rio Grande Valley | 157,872 | 1,750 | 2,002 | 0 | 161,625
Hawaii:
Gay & Robinson, Inc. | 62,163 | 2,135 | 0 | 0 | 64,298
Hawaiian Commercial & Sugar Company | 256,666 | −2,086 | −23,000 | 0 | 231,580
Hawaii Total | 318,829 | 49 | −23,000 | 0 | 295,878
Puerto Rico:
Agraso | 3,984 | −32 | −3,727 | 0 | 225
Roig | 2,187 | −17 | −2,170 | 0 | 0
Puerto Rico Total | 6,171 | −49 | −5,897 | 0 | 225

Signed in Washington, DC on April 11, 2003.
James R. Little,
Executive Vice President, Commodity Credit Corporation.

[FR Doc. 03-10391 Filed 4-25-03; 8:45 am]

BILLING CODE 3410-05-P